DEPARTMENT OF AGRICULTURE

Commodity Credit Corporation

Notice of Request for Reinstatement of a Previously Approved Information Collection

AGENCY: Commodity Credit Corporation, USDA.

ACTION: Notice and request for comments.

SUMMARY: In accordance with the Paperwork Reduction Act, this notice announces the Commodity Credit Corporation's (CCC) intention to request a reinstatement of a previously approved information collection under the Sugar Program. The Sugar Program is authorized by Section 156 of the 1996 Federal Agriculture Improvement and Reform Act of 1996 (the 1996 Act) and implemented by regulations issued by CCC. Paragraph 156(h)(1) of the 1996 Act requires cane sugar refiners, sugar beet processors, and sugarcane processors to “furnish the Secretary, on a monthly basis, such information as the Secretary may require to administer sugar programs, including the quantity of purchases of sugarcane, sugar beets, and sugar, and production, importation, distribution, and stock levels of sugar.”

DATES: Comments on this notice must be received by February 13, 2001 to be assured of consideration.

ADDITIONAL INFORMATION OR COMMENTS: Contact Thomas W. Bickerton, Economic Policy Analysis Staff (EPAS), Farm Service Agency (FSA), U.S. Department of Agriculture (USDA), STOP 0516, 1400 Independence Avenue, SW, Washington, DC 20250-0516; e-mail thomas_bickerton@wdc.fsa.usda.gov.

SUPPLEMENTARY INFORMATION: Title: Sugar Program.

OMB Control Number: 0560-0138.

Type of Request: Reinstatement of a previously approved collection.

Abstract: The information which will be collected under OMB control number 0560-0138 will allow CCC to effectively administer the Sugar Program authorized and mandated by Section 156 of the 1996 Act. The 1996 Act requires USDA to collect and publish, on a monthly basis, information as the Secretary may require to administer sugar programs, including sales of sugarcane, sugar beets, and sugar, and production, importation, distribution, and stock levels of sugar. This legal requirement to publish monthly data could not be satisfied with less frequent collections.

FSA uses these data to estimate supply and use for the monthly World Agricultural Supply and Demand Estimates report; publish the monthly Sweetener Market Data report; establish regional sugar loan rates; make appropriate adjustments in loan rates for raw and beet sugar for differences in grade, type, quality, and other factors; and estimate the impact of alternative sugar policy options on the sugar market. Also, these data help USDA determine the adequacy of the amount of sugars, syrups, and molasses permitted to be imported.

Estimate of Burden: Public reporting burden for this information collection is estimated to average 0.5554 hours per response.

Respondents: Cane sugar refiners, sugar beet processors, and sugarcane processors.

Estimated Number of Respondents: 51.

Estimated Number of Responses per Respondent: 17.

Estimated Total Annual Burden on Respondents: 18,698 hours.

Proposed topics for comments include, but are not limited to: (1) whether the collection of information is necessary for the proper performance of the functions of the agency, including whether the information will have practical utility; (2) the accuracy of the agency's estimate of burden including the validity of the methodology and assumptions used; (3) ways to enhance the quality, utility, and clarity of the information collected; and (4) ways to minimize the burden of the collection on those who are to respond, including the use of appropriate automated, electronic, mechanical, or other technological collection techniques or other forms of informational technology. Comments regarding this information collection requirement should be directed to the Office of Information and Regulatory Affairs, Office of Management and Budget, Attention: Desk Officer for Agriculture, Washington, DC 20503, or to Thomas W. Bickerton; EPAS, FSA, USDA, STOP 0516, Room 3734-South Building, 1400 Independence Avenue, SW, Washington, DC 20250-0516; e-mail thomas—bickerton@wdc.fsa.usda.gov. All responses to this notice will be summarized and included in the request for OMB approval. All comments will become a matter of public record.

Signed at Washington, DC, on December 7, 2000.
Keith Kelly,
Executive Vice President, Commodity Credit Corporation.

[FR Doc. 00-31956 Filed 12-14-00; 8:45 am]

BILLING CODE 3410-05-P